DEPARTMENT OF THE INTERIOR

National Park Service

[NPS-WASO-NAGPRA-NPS0034887; PPWOCRADN0-PCU00RP14.R50000]

Notice of Inventory Completion: Texas Archeological Research Laboratory, The University of Texas at Austin, Austin, TX

AGENCY: National Park Service, Interior.

ACTION: Notice.

SUMMARY: The Texas Archeological Research Laboratory (TARL) has completed an inventory of human remains and an associated funerary object, in consultation with the appropriate Indian Tribes or Native Hawaiian organizations and has determined the lineal descent of a present-day individual from the Native American individual whose human remains are described in this notice. Lineal descendants or representatives of any Indian Tribe or Native Hawaiian organization not identified in this notice that wish to request transfer of control of these human remains and this associated funerary object should submit a written request to TARL. If no additional requestors come forward, transfer of control of the human remains and the associated funerary object to the lineal descendant stated in this notice may proceed.

DATES: Lineal descendants or representatives of any Indian Tribe or Native Hawaiian organization not identified in this notice that wish to request transfer of control of these human remains and this associated funerary object should submit a written request with information in support of the request to TARL at the address in this notice by December 19, 2022.

FOR FURTHER INFORMATION CONTACT: Annie Riegert Cummings, Texas Archeological Research Laboratory, 1 University Station R7500, Austin, TX 78712, telephone (512) 471-6006, email annie.riegert@austin.utexas.edu.

SUPPLEMENTARY INFORMATION: Notice is here given in accordance with the Native American Graves Protection and Repatriation Act (NAGPRA), 25 U.S.C. 3003, of the completion of an inventory of human remains and an associated funerary object under the control of the Texas Archeological Research Laboratory, The University of Texas at Austin, Austin, TX. The human remains and associated funerary object were removed from the Spirit Eye Cave Site, 41PS25, in Presidio County, TX.

This notice is published as part of the National Park Service's administrative responsibilities under NAGPRA, 25 U.S.C. 3003(d)(3). The determinations in this notice are the sole responsibility of the museum, institution, or Federal agency that has control of the Native American human remains and associated funerary object. The National Park Service is not responsible for the determinations in this notice.

Consultation

Archeologist Deborah Gray conducted a detailed assessment of the human remains prior to their acquisition by TARL professional staff in 1998. In 2000, the human remains were further assessed and inventoried by TARL. Between 2000 and 2021, no potential consulting parties were identified, and no Indian Tribes requested to consult on the human remains. In 2021, Mr. Xoxi Nayapiltzin was identified as directly descending from the Native American individual whose human remains are described in this notice, and consultation was conducted with him.

History and Description of the Remains

In 1968, human remains representing, at minimum, one individual were looted by Kenneth Novak and Adrian Benke from the Spirit Eye Cave site (41PS25), previously known as the Novak and Benke site, in Presidio County, TX. The largely complete mummified remains belong to a middle aged-to-old adult female. The one associated funerary object is a piece of yellow ochre.

Due to the looted context, no additional information concerning the burial can be determined with great confidence. Following their removal in 1968, the human remains were advertised in a magazine, The Shotgun, and sold to a private buyer in California, Bob Howard. In 1998, during a search of Howard's residence by the California Department of Fish and Game, the mummified remains were recovered from a display case and taken to Wiefels and Son Mortuary, where they were analyzed by Deborah Gray. Mr. Howard told Ms. Gray where the human remains were disinterred and when he acquired them. As possession of human remains in California is illegal, the human remains were first transferred to the Riverside County Coroner's Office and then, upon the recommendation of the Office of the Texas State Archaeologist, to TARL. The human remains arrived at TARL on August 27, 1998 and were accessioned in 1999 under TARL Accession 1999.0155 and under human osteology accession number 3713.

Based on the presence of prehistoric artifacts at the Spirit Eye Cave site (41PS25), the human remains are reasonably believed to date from the prehistoric phase. Initial ancestry estimation was established through biological analysis of the cranium by Deborah Gray. In an attempt aid in repatriation, Dr. Bryon Schroeder of Sul Ross University sampled the mummified human remains after approval for a sampling request. Dr. Meradeth Snow conducted the genetic analysis and determined that this and another individual from Spirit Eye Cave belong to the B2a4a1 lineage. Dr. Snow then compared the genetic results to data from living individuals and from human remains found in removed archeological contexts in the Americas.

Mr. Xoxi Nayapiltzin approached researchers at Sul Ross State University and the Center for Big Bend Studies concerning prehistoric human remains in the Big Bend area on behalf of his family, the Nana Tana family. During this conversation Mr. Nayapiltzin provided his own haplogroup B2a4a1. The genetic distance between them is close as indicated by a single mutation in Mr. Nayapiltzin's own mitogenome sequence. The single mutation indicates that he is much more closely related to the individual belonging to the human remains at TARL than any other individuals used in Dr. Snow's analysis. Dr. Snow has provided TARL with a report supporting the lineal descent of Mr. Nayapiltzin from the Native American individual whose human remains are described in this notice.

During consultation, Mr. Nayapiltzin reported that nine matrilineal generations of the Nana Tana family have resided in Alpine, TX (55 miles from Spirit Eye Cave). Since starting his genealogical research 53 years ago, Mr. Nayapiltzin has located the 1833 baptismal records of his great great-great grandmother in Meoqui, and through additional research, he has traced his lineage in Meoqui back three more generations. This geographical information is consistent with the burial location of the mummified human remains and further supports the already established genetic findings.

Determinations Made by the Texas Archeological Research Laboratory, The University of Texas at Austin

Officials of the Texas Archeological Research Laboratory, The University of Texas at Austin have determined that:

• Pursuant to 25 U.S.C. 3001(9), the human remains described in this notice represent the physical remains of one individual of Native American ancestry.

• Pursuant to 25 U.S.C. 3001(3)(A), the one object described in this notice is reasonably believed to have been placed with or near individual human remains at the time of death or later as part of the death rite or ceremony.

• Pursuant to 43 CFR 10.2(b)(1) and 10.14(b), Mr. Xoxi Nayapiltzin is the direct lineal descendant of the Native American individual whose human remains are described in this notice.

Additional Requestors and Disposition

Lineal descendants or representatives of any Indian Tribe or Native Hawaiian organization not identified in this notice that wish to request transfer of control of these human remains and this associated funerary object should submit a written request with information in support of the request to Annie Riegert Cummings, Texas Archeological Research Laboratory, 1 University Station R7500, Austin, TX 78712, telephone (512) 471-6006, email annie.riegert@austin.utexas.edu, by December 19, 2022. After that date, if no additional requestors have come forward, transfer of control of the human remains and the associated funerary object to Mr. Xoxi Nayapiltzin may proceed.

The Texas Archeological Research Laboratory, The University of Texas at Austin is responsible for notifying Mr. Xoxi Nayapiltzin that this notice has been published.

Dated: November 9, 2022.
Melanie O'Brien,
Manager, National NAGPRA Program.

[FR Doc. 2022-25132 Filed 11-17-22; 8:45 am]

BILLING CODE 4312-52-P